DEPARTMENT OF HEALTH AND HUMAN SERVICES

Health Resources and Services Administration

Public Health Service Act, Non-competitive Replacement Award

AGENCY: Health Resources and Services Administration (HRSA), HHS.

ACTION: Notice of Non-competitive Replacement Award to the California Telehealth Network.

SUMMARY: The Health Resources and Services Administration (HRSA) is issuing a non-competitive replacement award under the Telehealth Resource Center Grant Program (TRCGP) to the California Telehealth Network in order to continue advancement of the effective use of telehealth technology that will facilitate the provision of health care services to rural, medically-underserved California residents.

SUPPLEMENTARY INFORMATION:

Former Grantee of Record: California Health Foundation and Trust.

Original Period of Grant Support: September 30, 2006, to August 31, 2012.

Replacement Awardee: California Telehealth Network.

Amount of Replacement Award: $355,000.

Period of Replacement Award: The period of support for this award is September 1, 2011, to August 31, 2012.

Authority: Section 330I(d)(2) of the Public Health Service Act, as amended, 42 U.S.C. 254c-14(d)(2).

Catalog of Federal Domestic Assistance Number: 93.211.

Justification For the Exception To Competition

The former grantee, California Health Foundation and Trust (CHFT), housed the California Telemedicine & eHealth Center (CTEC). For the past twelve years, CTEC has been a centralized resource center for California's telemedicine/telehealth efforts. CTEC provides technical assistance services to organizations within California interested in expanding new or existing telehealth services. HRSA was informed that CTEC is transferring organizationally from CHFT to the California Telehealth Network (CTN). The comprehensive services that CTEC provides and their ability to expand their services will allow CTN to maintain the current scope of service and activities as originally awarded under the grant. CTN has a demonstrated history of telecommunications success that will allow it to manage a regional telehealth resource center. This replacement award will help ensure the continued improvement of health care systems in California.

FOR FURTHER INFORMATION CONTACT: Monica Cowan, Public Health Analyst, Office for the Advancement of Telehealth, Office of Rural Health Policy, Health Resources and Services Administration, Room 5A-55, 5600 Fishers Lane, Rockville, Maryland 20857; (301) 443-0076; email: Monica.cowan@hrsa.hhs.gov.

Dated: January 24, 2012.
Mary K. Wakefield,
Administrator.

[FR Doc. 2012-2071 Filed 1-30-12; 8:45 am]

BILLING CODE 4165-15-P